ENVIRONMENTAL PROTECTION AGENCY

[FRL-7064-6]

Agency Information Collection Activities: Submission for OMB Review; Comment Request, New Source Performance Standards for Portland Cement Plants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New Source Performance Standards for Portland Cement Plants, OMB Control Number 2060-0025, expiration date September 30, 2001. The ICR describes the nature of the information collection and its expected burden and cost; where appropriate, it includes the actual data collection instrument.

DATES: Comments must be submitted on or before October 25, 2001.

ADDRESSES: Send comments, referencing EPA ICR No. 1051.08 and OMB Control No. 2060-0025, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by email at auby.susan@epamail.epa.gov, or download off the Internet at http://www.epa.gov/icr and refer to EPA ICR No. 1051.08. For technical questions about the ICR contact Gregory Fried at EPA at (202) 564-7016.

SUPPLEMENTARY INFORMATION: Title: New Source Performance Standards for Portland Cement Plants, OMB Control No. 2060-0025; EPA ICR No. 1051.08; expiring September 30, 2001. This is a request for extension of a currently approved collection.

Abstract: Entities potentially affected by this action are portland cement plants with the following facilities: Kilns, clinker coolers, raw mill systems, raw mill dryers, raw material storage, clinker storage, finished product storage, conveyor transfer points, bagging and bulk loading and unloading systems. The Administrator has judged that PM emissions from portland cement plants cause or contribute to air pollution that may reasonably be anticipated to endanger public health or welfare. Owners/operators of portland cement plants must notify EPA of construction, modification, startups, shut downs, date and results of initial performance test and excess emissions. In order to ensure compliance with the standards promulgated to protect public health, adequate reporting and recordkeeping is necessary. In the absence of such information enforcement personnel would be unable to determine whether the standards are being met on a continuous basis, as required by the Clean Air Act. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 1, 2001 (66 FR 8588). No comments were received.

Burden Statement: The annual public reporting and recordkeeping burden for this collection of information is estimated to average approximately 18 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators of Portland Cement Plants.

Estimated Number of Respondents: 113.

Frequency of Response: Initial and semiannual.

Estimated Total Annual Hour Burden: 7,968 hours.

Estimated Total Annualized Capital and Operating & Maintenance Cost Burden: $986,700.

Send comments on the Agency's need for this information, the accuracy of the provided burden estimates, and any suggested methods for minimizing respondent burden, including through the use of automated collection techniques to the following addresses. Please refer to EPA ICR No. 1051.08 and OMB Control No. 2060-0025 in any correspondence.

Dated: September 12, 2001.
Oscar Morales,
Director, Collection Strategies Division.

[FR Doc. 01-23915 Filed 9-24-01; 8:45 am]

BILLING CODE 6560-50-P